DEPARTMENT OF ENERGY

Federal Energy Regulatory Commission

Combined Notice of Filings

Take notice that the Commission has received the following Natural Gas Pipeline Rate and Refund Report filings:

Filings Instituting Proceedings

Docket Numbers: RP19-173-000.

Applicants: Algonquin Gas Transmission, LLC.

Description: § 4(d) Rate Filing: Negotiated Rate—Keyspan releases 11-1-18 to be effective 11/1/2018.

Filed Date: 10/31/18.

Accession Number: 20181031-5099.

Comments Due: 5 p.m. ET 11/13/18.

Docket Numbers: RP19-187-000.

Applicants: Texas Eastern Transmission, LP.

Description: § 4(d) Rate Filing: Negotiated Rates—CFE International Contract 911557 to be effective 11/1/2018.

Filed Date: 10/31/18.

Accession Number: 20181031-5184.

Comments Due: 5 p.m. ET 11/13/18.

Docket Numbers: RP19-189-000.

Applicants: Texas Eastern Transmission, LP.

Description: § 4(d) Rate Filing: Negotiated Rates—BP Energy 8954515 to be effective 11/1/2018.

Filed Date: 10/31/18.

Accession Number: 20181031-5193.

Comments Due: 5 p.m. ET 11/13/18.

Docket Numbers: RP19-203-000.

Applicants: Algonquin Gas Transmission, LLC.

Description: § 4(d) Rate Filing: AGT FRQ 2018 FILING to be effective 12/1/2018.

Filed Date: 10/31/18.

Accession Number: 20181031-5251.

Comments Due: 5 p.m. ET 11/13/18.

Docket Numbers: RP19-209-000.

Applicants: Kinder Morgan Louisiana Pipeline LLC.

Description: § 4(d) Rate Filing: Negotiated Rate—Sabine Pass to be effective 12/1/2018.

Filed Date: 10/31/18.

Accession Number: 20181031-5284.

Comments Due: 5 p.m. ET 11/13/18.

Docket Numbers: RP19-212-000.

Applicants: OkTex Pipeline Company, L.L.C.

Description: Compliance filing 2017-2018 Gas Sales and Purchases Report.

Filed Date: 10/31/18.

Accession Number: 20181031-5287.

Comments Due: 5 p.m. ET 11/13/18.

Docket Numbers: RP11-1591-000.

Applicants: Golden Pass Pipeline LLC.

Description: Report Filing: 2018 Annual Penalty Revenues and Costs of Golden Pass Pipeline.

Filed Date: 11/1/18.

Accession Number: 20181101-5073.

Comments Due: 5 p.m. ET 11/13/18.

Docket Numbers: RP18-1044-001.

Applicants: Summit Natural Resources, LLC.

Description: Amended Petition for Temporary Waiver, et al. of Summit Natural Resources, LLC under RP18-1044.

Filed Date: 11/1/18.

Accession Number: 20181101-5131.

Comments Due: 5 p.m. ET 11/8/18.

Docket Numbers: RP18-1104-002.

Applicants: Rockies Express Pipeline LLC.

Description: Compliance filing Compliance Tariff Filing to be effective 10/1/2018.

Filed Date: 11/1/18.

Accession Number: 20181101-5030.

Comments Due: 5 p.m. ET 11/13/18.

Docket Numbers: RP19-214-000.

Applicants: Tallgrass Interstate Gas Transmission, LLC.

Description: Compliance filing Compliance Tariff Filing (CP18-34-000) to be effective 11/1/2018.

Filed Date: 11/1/18.

Accession Number: 20181101-5028.

Comments Due: 5 p.m. ET 11/13/18.

Docket Numbers: RP19-215-000.

Applicants: ANR Pipeline Company.

Description: § 4(d) Rate Filing: WEPCO Negotiated Rate 107896 Amend. 10 to be effective 11/1/2018.

Filed Date: 11/1/18.

Accession Number: 20181101-5031.

Comments Due: 5 p.m. ET 11/13/18.

Docket Numbers: RP19-216-000.

Applicants: Rover Pipeline LLC.

Description: § 4(d) Rate Filing: Summary of Negotiated Rate Capacity Release Agreements on 11-1-18 to be effective 11/1/2018.

Filed Date: 11/1/18.

Accession Number: 20181101-5036.

Comments Due: 5 p.m. ET 11/13/18.

Docket Numbers: RP19-217-000.

Applicants: Gulf Crossing Pipeline Company LLC.

Description: § 4(d) Rate Filing: 2018 Fuel Tracker Filing to be effective 4/1/2019.

Filed Date: 11/1/18.

Accession Number: 20181101-5037.

Comments Due: 5 p.m. ET 11/13/18.

Docket Numbers: RP19-218-000.

Applicants: Texas Gas Transmission, LLC.

Description: § 4(d) Rate Filing: Cap Rel Neg Rate Agmts (PennEnergy 37580, 37579 to BP 37586, 37587) to be effective 11/1/2018.

Filed Date: 11/1/18.

Accession Number: 20181101-5038.

Comments Due: 5 p.m. ET 11/13/18.

Docket Numbers: RP19-219-000.

Applicants: Texas Gas Transmission, LLC.

Description: § 4(d) Rate Filing: Cap Rel Neg Rate Agmt (Riverbend 37584 to Wells Fargo 37588) to be effective 11/1/2018.

Filed Date: 11/1/18.

Accession Number: 20181101-5039.

Comments Due: 5 p.m. ET 11/13/18.

Docket Numbers: RP19-220-000.

Applicants: Gulf South Pipeline Company, LP.

Description: § 4(d) Rate Filing: Cap Rel Neg Rate Agmts (Petrohawk 41455 releases eff 11-1-2018) to be effective 11/1/2018.

Filed Date: 11/1/18.

Accession Number: 20181101-5055.

Comments Due: 5 p.m. ET 11/13/18.

Docket Numbers: RP19-221-000.

Applicants: Algonquin Gas Transmission, LLC.

Description: § 4(d) Rate Filing: Negotiated Rates—Colonial release to Direct Energy 798149 to be effective 11/2/2018.

Filed Date: 11/1/18.

Accession Number: 20181101-5107.

Comments Due: 5 p.m. ET 11/13/18.

Docket Numbers: RP19-222-000.

Applicants: Columbia Gas Transmission, LLC.

Description: § 4(d) Rate Filing: OTRA—Winter 2018 to be effective 12/1/2018.

Filed Date: 11/1/18.

Accession Number: 20181101-5111.

Comments Due: 5 p.m. ET 11/13/18.

Docket Numbers: RP19-223-000.

Applicants: Equitrans, L.P.

Description: § 4(d) Rate Filing: Negotiated Capacity Release Agreements—11/1/2018 to be effective 11/1/2018.

Filed Date: 11/1/18.

Accession Number: 20181101-5142.

Comments Due: 5 p.m. ET 11/13/18.

Docket Numbers: RP19-224-000.

Applicants: Gulf South Pipeline Company, LP.

Description: § 4(d) Rate Filing: 2018 Fuel Tracker Filing to be effective 4/1/2019.

Filed Date: 11/1/18.

Accession Number: 20181101-5144.

Comments Due: 5 p.m. ET 11/13/18.

Docket Numbers: RP19-225-000.

Applicants: NextEra Energy Marketing, LLC,EQT Energy, LLC.

Description: Joint Petition for Temporary Waivers of Capacity Release Regulations and Related Tariff Provisions, et al. of NextEra Energy Marketing, LLC, et al. under RP19-225.

Filed Date: 11/1/18.

Accession Number: 20181101-5145.

Comments Due: 5 p.m. ET 11/8/18.

Docket Numbers: RP19-226-000.

Applicants: Columbia Gas Transmission, LLC.

Description: § 4(d) Rate Filing: Negotiated Rate Agmt—Diversified to be effective 11/1/2018.

Filed Date: 11/1/18.

Accession Number: 20181101-5153.

Comments Due: 5 p.m. ET 11/13/18.

Docket Numbers: RP19-227-000.

Applicants: Columbia Gas Transmission, LLC.

Description: § 4(d) Rate Filing: Non-Conforming & Negotiated Rate Amnd—Ascent to be effective 11/1/2018.

Filed Date: 11/1/18.

Accession Number: 20181101-5154.

Comments Due: 5 p.m. ET 11/13/18.

Docket Numbers: RP19-228-000.

Applicants: Columbia Gas Transmission, LLC.

Description: § 4(d) Rate Filing: Negotiated Rate Agreements—Spotlight & Mercuria to be effective 11/1/2018.

Filed Date: 11/1/18.

Accession Number: 20181101-5157.

Comments Due: 5 p.m. ET 11/13/18.

Docket Numbers: RP19-229-000.

Applicants: Portland Natural Gas Transmission System.

Description: § 4(d) Rate Filing: PNGTS Nov 1 Neg Rate Agmts Filing to be effective 11/1/2018.

Filed Date: 11/1/18.

Accession Number: 20181101-5163.

Comments Due: 5 p.m. ET 11/13/18.

Docket Numbers: RP19-230-000.

Applicants: Rockies Express Pipeline LLC.

Description: § 4(d) Rate Filing: Neg Rate 2018-11-01 Encana to be effective 11/1/2018.

Filed Date: 11/1/18.

Accession Number: 20181101-5165.

Comments Due: 5 p.m. ET 11/13/18.

Docket Numbers: RP19-231-000.

Applicants: Alliance Pipeline L.P.

Description: § 4(d) Rate Filing: Contract Adjustments for 11-1-2018 to be effective 11/1/2018.

Filed Date: 11/1/18.

Accession Number: 20181101-5173.

Comments Due: 5 p.m. ET 11/13/18.

Docket Numbers: RP19-232-000.

Applicants: Destin Pipeline Company, L.L.C.

Description: Compliance filing Annual Fuel Retention Adjustment Filing to be effective 9/1/2018.

Filed Date: 11/1/18.

Accession Number: 20181101-5177.

Comments Due: 5 p.m. ET 11/13/18.

Docket Numbers: RP19-233-000.

Applicants: Maritimes & Northeast Pipeline, L.L.C.

Description: eTariff filing per 1430: MNUS FERC Form 501-G Waiver Request.

Filed Date: 11/1/18.

Accession Number: 20181101-5183.

Comments Due: 5 p.m. ET 11/13/18.

Docket Numbers: RP19-234-000.

Applicants: Enable Gas Transmission, LLC.

Description: § 4(d) Rate Filing: Negotiated Rate Filing—November 2018—Great Salt, Louisiana Gas 1017 to be effective 11/1/2018.

Filed Date: 11/1/18.

Accession Number: 20181101-5190.

Comments Due: 5 p.m. ET 11/13/18.

Docket Numbers: RP19-165-001.

Applicants: WBI Energy Transmission, Inc.

Description: Tariff Amendment: 2018 Amendment to Section 4 Rate Case to be effective 12/1/2018.

Filed Date: 11/2/18.

Accession Number: 20181102-5109.

Comments Due: 5 p.m. ET 11/14/18.

Docket Numbers: RP19-235-000.

Applicants: Tennessee Gas Pipeline Company, L.L.C.

Description: § 4(d) Rate Filing: Volume No. 2—Corpus Christi Liquefaction, LLC SP341918 to be effective 12/1/2018.

Filed Date: 11/2/18.

Accession Number: 20181102-5001.

Comments Due: 5 p.m. ET 11/14/18.

Docket Numbers: RP19-236-000.

Applicants: Northern Natural Gas Company.

Description: § 4(d) Rate Filing: 20181102 Negotiated Rate to be effective 11/3/2018.

Filed Date: 11/2/18.

Accession Number: 20181102-5175.

Comments Due: 5 p.m. ET 11/14/18.

Docket Numbers: RP19-237-000.

Applicants: Millennium Pipeline Company, LLC.

Description: Compliance filing Tariff Changes To Incorporate Project Incremental Retainage Rate to be effective 12/15/2018.

Filed Date: 11/2/18.

Accession Number: 20181102-5199.

Comments Due: 5 p.m. ET 11/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2018.
Nathaniel J. Davis, Sr.,
Deputy Secretary.

[FR Doc. 2018-24533 Filed 11-8-18; 8:45 am]

BILLING CODE 6717-01-P